DEPARTMENT OF HEALTH AND HUMAN SERVICES

Food and Drug Administration

[Docket No. 2005D-0133]

“Guidance for Industry: Assessing Donor Suitability and Blood and Blood Product Safety in Cases of Known or Suspected West Nile Virus Infection;” Availability; Correction

AGENCY: Food and Drug Administration, HHS.

ACTION: Notice; correction.

The Food and Drug Administration (FDA) is correcting a notice that appeared in the Federal Register of June 30, 2005 (70 FR 37863). The document announced the availability of a guidance document entitled “Guidance for Industry: Assessing Donor Suitability and Blood and Blood Product Safety in Cases of Known or Suspected West Nile Virus Infection.” The document published with inadvertent errors. This document corrects those errors.

FOR FURTHER INFORMATION CONTACT: Joyce Strong, Office of Policy and Planning (HF-27), Food and Drug Administration, 5600 Fishers Lane, Rockville, MD 20857, 301-827-7010.

SUPPLEMENTARY INFORMATION: In FR Doc. 05-12960, appearing on page 37863 in the Federal Register of Thursday, June 30, 2005, the following correction is made:

1. On page 37864, in the second column, under the section heading “II. Paperwork Reduction Act of 1995”, the second sentence is corrected to read: “The collection of information in this guidance for 21 CFR 601.12 was approved under OMB control number 0910-0338; § 606.170(b) (21 CFR 606.170(b)) has been approved under OMB control number 0910-0116; and § 606.171 has been approved under OMB control number 0910-0458.”

Dated: July 8, 2005.
Jeffrey Shuren,
Assistant Commissioner for Policy.

[FR Doc. 05-13830 Filed 7-13-05; 8:45 am]

BILLING CODE 4160-01-S